DEPARTMENT OF EDUCATION

Notice Inviting Applications From Test Publishers for a Determination of the Suitability of a Test for Use in the National Reporting System for Adult Education

AGENCY: Office of Vocational and Adult Education, U.S. Department of Education.

ACTION: Notice inviting applications from test publishers for a determination of the suitability of a test for use in the National Reporting System for Adult Education.

SUMMARY: The Department of Education (Department) announces the date by which test publishers must submit tests to the Secretary for review and approval for use in the National Reporting System for Adult Education (NRS).

FOR FURTHER INFORMATION CONTACT: Mike Dean, U.S. Department of Education, 400 Maryland Avenue, SW., Room 11152, Potomac Center Plaza, Washington, DC 20202-7240. Telephone: (202) 245-7828 or via Internet: Mike.Dean@ed.gov.

If you use a telecommunications device for the deaf (TDD), you may call the Federal Relay Service (FRS) at 1-800-877-8339.

Individuals with disabilities may obtain this document in an accessible format (e.g., braille, large print, audiotape, or computer diskette) on request to the contact person listed in this section.

SUPPLEMENTARY INFORMATION: The Department's regulations in 34 CFR part 462 establish procedures for determining the suitability of tests for use in the NRS.

Criteria and Requirements the Secretary uses: In order for the Secretary to consider a test suitable for use in the NRS, the test must meet the criteria and requirements established in 34 CFR 462.13.

Submission Requirements

a. A test publisher must comply with the requirements in 34 CFR 462.11 when submitting an application.

b. In accordance with § 462.10, the deadline for transmittal of applications is October 1, 2009.

c. You may submit your application by mail or hand delivery only. Whether you submit your application by mail (through the U.S. Postal Service or a commercial carrier) or you hand deliver (or use a courier service) your application, you must mail or deliver three copies of your application, on or before the deadline date, to the following address: NRS Assessment Review, c/o American Institutes for Research, 1000 Thomas Jefferson Street, NW., Washington, DC 20007.

d. If you submit your application by mail or commercial carrier, you must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

e. If your application is postmarked after the application deadline date, we will not consider your application.

Note: The U.S. Postal Service does not uniformly provide a dated postmark. Before relying on this method, you should check with your local post office.

f. If you submit your application by hand delivery, you (or a courier service) must deliver three copies of the application by hand, on or before 4:30:00 p.m., Washington, DC time on the application deadline date.

Electronic Access to This Document

You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html.

Dated: September 4, 2009.
Dennis Berry,
Acting Assistant Secretary for Vocational and Adult Education.

[FR Doc. E9-21841 Filed 9-10-09; 8:45 am]

BILLING CODE 4000-01-P